DEPARTMENT OF COMMERCE

International Trade Administration

[A-570-867]

Automotive Replacement Glass Windshields From the People's Republic of China: Final Results of Administrative Review

AGENCY: Import Administration, International Trade Administration, Department of Commerce.

ACTION: Notice of final results of the first administrative review of automotive replacement glass windshields from the People's Republic of China.

SUMMARY: The Department of Commerce (“the Department”) published its preliminary results of administrative review of the antidumping duty order on automotive replacement glass windshields (“ARG”) from the People's Republic of China (“PRC”) on May 7, 2004. See Automotive Replacement Glass Windshields from the People's Republic of China: Preliminary Results of Antidumping Duty Administrative Review 69 FR 25545 (May 7, 2004) (“Preliminary Results”). The period of review (“POR”) is September 19, 2001, through March 31, 2003.

Based on our analysis of the comments we received, we have made changes from the preliminary results of review. Therefore, the final results differ from the Preliminary Results with respect to the weighted-average dumping margins. The final weighted-average dumping margin for the reviewed firms is listed below in the section entitled “Final Results of the Review.”

DATES: Effective October 21, 2004.

FOR FURTHER INFORMATION CONTACT: Will Dickerson or Jon Freed, Import Administration, International Trade Administration, U.S. Department of Commerce, 14th Street and Constitution Avenue, NW., Washington, DC 20230; telephone: (202) 482-1778 and (202) 482-3818, respectively.

Background

On May 21, 2003, the Department published in the Federal Register a notice of the initiation of the antidumping duty administrative review of ARG from the PRC for the period September 19, 2001, through March 31, 2003. See Initiation of Antidumping and Countervailing Duty Administrative Reviews and Request for Revocation in Part, 68 FR 27781 (May 21, 2003). The respondents included Changchun Pilkington Safety Glass Company, Ltd., Shanghai Yaohua Pilkington Autoglass Company, Ltd., Wuhan Yaohua Pilkington Safety Glass Company, Ltd., Guilin Pilkington Safety Glass Company, Ltd. (collectively “Pilkington JVs”), Dongguan Kongwan Automobile Glass Ltd. and Peaceful City, Ltd., (collectively “Peaceful City”), Fuyao Glass Industry Group company, Ltd. (“Fuyao”), Shenzhen CSG Automotive Glass Co., Ltd. (formerly Shenzhen Benxun AutoGlass Co., Ltd.) (“Shenzhen CSG”), TCG International, Inc. (“TCGI”), and Xinyi Automotive Glass (Shenzhen) Co., Ltd. (“Xinyi”).

On September 8, 2003, the Department published a notice in the Federal Register rescinding the administrative reviews of TCGI, Xinyi, and Shenzhen CSG. See Certain Automotive Replacement Glass Windshields from the People's Republic of China: Notice of Partial Rescission of the Antidumping Duty Administrative Review, 68 FR 52893 (September 8, 2003) (“Notice of Rescission”).

In the Department's original investigation, Shenzhen Benxun AutoGlass Co., Ltd. (“Benxun”) received a rate separate from the PRC-wide entity. When Shenzhen CSG requested an administrative review, it indicated it was the company known formerly as Benxun, but that it had undergone a name change since the Department's orginal investigation. On July 8, 2003, Shenzhen CSG withdrew its request for an administrative review. Because Shenzhen CSG withdrew its request for administrative review, the Department did not have the information necessary to make a successor-in-interest determination. Therefore, the Department did not determine that Shenzhen CSG was entitled to receive the same antidumping rate accorded Benxun within the context of this administrative review. In a changed-circumstance review subsequent to the September 8, 2003, Notice of Rescission, the Department determined that entries of merchandise from Shenzhen CSG are eligible for Benxun's cash-deposit rate. See Notice of Final Results of Antidumping Duty Changed Circumstances Review: Automotive Replacement Glass Windshields from the People's Republic of China, 69 FR 43388 (July 20, 2004).

We invited parties to comment on our preliminary results of review. See Preliminary Results. On June 7, 2004, the Department received case briefs from PNA, Fuyao, and Shenzhen CSG. On June 9, 2004, the Department received an untimely filed case brief from Peaceful City, which it rejected in accordance with 19 CFR 351.302(d). See Letter to Peaceful City Rejecting Case Brief, dated July 9, 2004. We did not receive any rebuttal comments. We have now completed the administrative review in accordance with section 751 of the Tariff Act of 1930, as amended (“the Act”).

Scope of Order

The products covered by this order are ARG windshields, and parts thereof, whether clear or tinted, whether coated or not, and whether or not they include antennas, ceramics, mirror buttons or VIN notches, and whether or not they are encapsulated. ARG windshields are laminated safety glass (i.e., two layers of (typically float) glass with a sheet of clear or tinted plastic in between (usually polyvinyl butyral)), which are produced and sold for use by automotive glass installation shops to replace windshields in automotive vehicles (e.g., passenger cars, light trucks, vans, sport utility vehicles, etc.) that are cracked, broken or otherwise damaged.

ARG windshields subject to this order are currently classifiable under subheading 7007.21.10.10 of the Harmonized Tariff Schedules of the United States (HTSUS). Specifically excluded from the scope of the order are laminated automotive windshields sold for use in original assembly of vehicles. While HTSUS subheadings are provided for convenience and customs purposes, our written description of the scope of the order is dispositive.

Facts Available

In the instant review, for the preliminary results, the Department applied the petition rate as adverse facts available, in accordance with section 776(a) of the Act, to Peaceful City because Peaceful City withheld certain information that had been requested by the Department, it failed to provide certain information by the Department's statutory deadlines, it significantly impeded the Department's investigation, and it failed to provide certain information that could be verified pursuant to sections 776(a)(2)/(A), (B), (C) and (D) of the Act. See Preliminary Results, 69 FR at 25550-25555. There is no argument on the record to cause us to reconsider our decision in the Preliminary Results. Therefore, we have determined that the application of facts available continues to be appropriate with respect to Peaceful City.

Corroboration of Adverse Facts Available

We corroborated the adverse facts-available rate we have applied to Peaceful City in the investigation and in the preliminary results of this administrative review. See Preliminary Results, 69 FR at 25555-25556, citing Memorandum from Jon Freed to Robert Bolling: Preliminary Results in the Antidumping Administrative Review of Automotive Replacement Glass Windshields from the People's Republic of China: First Administrative Review Corroboration Memorandum, dated April 29, 2004 (“First Review Corroboration Memo”), with attached Memorandum from Edward Yang to Joseph Spetrini: Preliminary Determination in the Antidumping Investigation of Automotive Replacement Glass Windshields from the People's Republic of China: Total Facts Available Corroboration Memorandum for All Others Rate, dated September 10, 2001 (“Corroboration Memo”). In the Preliminary Results, the Department found the facts-available rate of 124.5 percent to be both reliable and relevant. Id. The Department explained in its Preliminary Results that it would reexamine the relevancy of the petition rate to this administrative review by considering all margins on the record at the time of the final results. See 69 FR at 25556.

To assess the relevancy of the total adverse facts-available rate it has chosen, the Department compared the final margin calculations of other respondents in this administrative review with the rate of 124.5 percent from the original petition. We find the rate is within the range of the highest margins we have determined in this administrative review. See Memorandum from Jon Freed to Robert Bolling: Final Results in the Antidumping Administrative Review of Automotive Replacement Glass Windshields from the People's Republic of China: First Administrative Review Final Corroboration Memorandum, dated October 14, 2004 (“First Review Final Corroboration Memo”). Since the record of this administrative review contains margins within the range of the petition margin, we determine that the rate from the petition continues to be relevant for use in this administrative review. Further, the rate used is currently applicable to all exporters subject to the PRC-wide rate.

As the petition rate is both reliable and relevant, we determine that it has probative value. As a result, the Department determines that the petition rate is corroborated for the purposes of this administrative review and may reasonably be applied to Peaceful City as a total adverse facts-available rate. Accordingly, we determine that the highest rate from any segment of this administrative proceeding (i.e., the calculated rate of 124.50 percent) is in accord with the requirement under section 776(c) of the Act that secondary information be corroborated (i.e., have probative value).

Consequently, we are applying a single antidumping rate, the highest rate from any segment of this administrative proceeding, to Peaceful City's exports based on Peaceful City's failure to be reasonably prepared during the verification and its resulting failure to substantiate the majority of its factors of production, which were reported in its questionnaire responses. See, e.g., Final Determination of Sales at Less Than Fair Value: Synthetic Indigo from the People's Republic of China, 65 FR 25706, 25707 (May 3, 2000).

Analysis of Comments Received

All issues raised in the case and rebuttal briefs by parties to this administrative review are addressed in the “Issues and Decision Memorandum” (“Decision Memorandum”) from Jeffrey A. May, Deputy Assistant Secretary, for Import Administration, to James J. Jochum, Assistant Secretary for Import Administration, dated October 14, 2004, which is hereby adopted by this notice. A list of the issues which parties have raised and to which we have responded, all of which are in the Decision Memorandum, is attached to this notice as an Appendix. Parties can find a complete discussion of all issues raised in this review and the corresponding recommendations in the Decision Memorandum, which is on file in the Central Records Unit, Room B-099 of the main Department building. In addition, a complete version of the Decision Memorandum can be accessed directly on the Web at http://ia.ita.doc.gov/frn/index.html. The paper copy and electronic version of the Decision Memorandum are identical in content.

Changes Since the Preliminary Results

Based on our analysis of comments received, we have made changes in the margin calculations for PNA. The specific calculation changes can be found in our Final Analysis Memo, dated October 14, 2004. The changes to the margin calculations are listed below:

• For the calculation of imputed credit, inventory-carrying cost, and marine insurance, the Department used the net price (i.e., gross price—price-list discount) rather than gross price in order to base these adjustments on the amounts actually paid. See Decision Memorandum at Comment 7.

• In the preliminary results, the Department inadvertently overstated the marine insurance value. For the final results, the Department reduced the marine insurance value by two decimal places. See Decision Memorandum at Comment 8.

• In the preliminary results, the Department inadvertently valued metal clips with the surrogate value for labels. For the final results, the Department valued metal clips with the value listed on page 5 of the Factors Valuation Memorandum. See Decision Memorandum at Comment 9.

• The Department double-counted two elements of the packing labor calculation of normal value in the preliminary results of review. For the final results, the Department corrected this inadvertent error. See Decision Memorandum at Comment 10.

Final Results of Review

We determine that the following percentage margins exist on exports of ARG windshields from the PRC for the period September 19, 2001, through March 31, 2003:

Automotive Replacement Glass Windshields From the PRC
Producer/manufacturer/exporter | Weighted-average margin (percent)
Fuyao | *0.13
Peaceful City/Dongguan Kongwan | 124.50
Pilkington | 2.88
*De minimis.

Assessment Rates

In accordance with 19 CFR 351.212(b)(1), we have calculated exporter/importer (or customer)-specific assessment rates for merchandise subject to this review. The Department will issue appraisement instructions directly to U.S. Customs and Border Protection (“CBP”) within 15 days of publication of these final results of administrative review. We will direct CBP to assess the resulting assessment rates against the entered customs values for the subject merchandise on each of that importer's entries under the relevant order during the review period.

To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis (i.e., 0.5%), we calculated a per unit assessment rate by aggregating the dumping margins calculated for all U.S. sales to that importer (or customer) and dividing this amount by the total quantity sold to that importer (or customer). Where an importer (or customer)-specific ad valorem rate was de minimis, we will order CBP to liquidate appropriate entries without regard to antidumping duties.

Cash Deposit Requirements

The following deposit requirements will be effective upon publication of this notice of final results of administrative review for all shipments of ARG windshields from the PRC entered, or withdrawn from warehouse, for consumption on or after the date of publication, as provided by section 751(a)(1) of the Act: (1) The cash deposit rates for the reviewed companies will be the rates shown above except that the Department shall require no deposit of estimated antidumping duties for firms whose weighted-average margins are less than 0.5% and therefore de minimis; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews, the cash deposit rate will be the “all others” rate, which is 124.5 percent.

These deposit requirements shall remain in effect until publication of the final results of the next administrative review.

Notification of Interested Parties

This notice also serves as a final reminder to importers of their responsibility under 19 CFR 351.402(f)(2) to file a certificate regarding the reimbursement of antidumpting duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(I)(1) of the Act.

Dated: October 14, 2004.
Joseph A. Spetrini,
Acting Assistant Secretary for Import Administration.

Appendix 1—Issues in the Decision Memorandum

Fuyao's Comments

Comment 1: Water as a Separate Component of Normal Value

Comment 2: Certain Inputs as a Separate Component of Normal Value

Shenzhen CSG's Comments

Comment 3: Liquidation Instructions for Shenzhen CSG's Entries

PNA's Comments

Comment 4: Proper Set of Sales as Basis for the Margin for PNA

Comment 5: Rejection of Market Purchases from Indonesia, Thailand, and South Korea

Comment 6: Surrogate Profit Ratio

Comment 7: Allocation of Credit Expense, Inventory Carrying Cost, and Marine Insurance

Comment 8: Market-Price Value for Marine Insurance 1

Comment 9: Surrogate Value for Metal Clips

Comment 10: Double-Counting of Labor

[FR Doc. 04-23605 Filed 10-20-04; 8:45 am]

BILLING CODE 3510-DS-P